DEPARTMENT OF ENERGY

Federal Energy Regulatory Commission

Combined Notice of Filings #1

May 14, 2010.

Take notice that the Commission received the following electric rate filings:

Docket Numbers: ER07-397-005.

Applicants: ISO New England Inc. and New England Power Pool.

Description: ISO New England Inc et. al submit revision to Section III.13 of the ISO Tariff in response to the compliance requirement in the Commission's order issued in 2/28/07.

Filed Date: 05/12/2010.

Accession Number: 20100513-0201.

Comment Date: 5 p.m. Eastern Time on Wednesday, June 02, 2010.

Docket Numbers: ER10-958-001.

Applicants: Lockhart Power Company.

Description: Lockhart Power Company submits revisions to its 3/30/10 filing to revise its FERC Electric Tariff, Original Volume No 1 effective 5/1/10.

Filed Date: 05/13/2010.

Accession Number: 20100513-0232.

Comment Date: 5 p.m. Eastern Time on Monday, May 24, 2010.

Docket Numbers: ER10-966-001.

Applicants: California Independent System Operator Corporation.

Description: California Independent System Operator Corporation submits amendments to the ISO's amendment to the ISO Tariff filed on 3/31/10.

Filed Date: 05/13/2010.

Accession Number: 20100514-0204.

Comment Date: 5 p.m. Eastern Time on Monday, May 24, 2010.

Docket Numbers: ER10-1029-001; ER10-1030-001, ER10-1031-001.

Applicants: West Oaks Energy LP, West Oaks Energy NY/NE, LP, Crestwood Energy, LP.

Description: West Oaks Energy, LP et. al submits revised application for Market Based Rate Authorizations, Designation of Category 1 Status, and Request for Waivers and Blanket Approvals.

Filed Date: 05/13/2010.

Accession Number: 20100514-0203.

Comment Date: 5 p.m. Eastern Time on Thursday, June 03, 2010.

Docket Numbers: ER10-1234-000; ER10-1235-000.

Applicants: Arizona Public Service Company.

Description: Arizona Public Service Co submits notice of cancellation of its FERC Electric Coordination Tariff No 1 and FERC Electric Tariff Volume No 4.

Filed Date: 05/13/2010.

Accession Number: 20100513-0235.

Comment Date: 5 p.m. Eastern Time on Thursday, June 03, 2010.

Docket Numbers: ER10-1238-000.

Applicants: Niagara Mohawk Power Corporation.

Description: Niagara Mohawk Power Corporation submits Original Service Agreement 1578 with Entergy Fitzpatrick, LLC.

Filed Date: 05/13/2010.

Accession Number: 20100513-0225.

Comment Date: 5 p.m. Eastern Time on Thursday, June 03, 2010.

Docket Numbers: ER10-1239-000.

Applicants: Interstate Power and Light Company.

Description: Interstate Power and Light Company submits changes in depreciation rates related to non-clear production service.

Filed Date: 05/13/2010.

Accession Number: 20100513-0226.

Comment Date: 5 p.m. Eastern Time on Thursday, June 03, 2010.

Docket Numbers: ER10-1243-000.

Applicants: Trans-Allegheny Interstate Line Company.

Description: Trans-Allegheny Interstate Line Co. submits PJM Interconnection LLC's FERC Electric Tariff, Sixth Revised Volume 1.

Filed Date: 05/13/2010.

Accession Number: 20100513-0233.

Comment Date: 5 p.m. Eastern Time on Thursday, June 03, 2010.

Docket Numbers: ER10-1244-000.

Applicants: Midwest Independent System Operator, Inc.

Description: Midwest Independent System Operator, Inc submits an Amended and Restated General Facilities Agreement among MidAmerican Energy Company, Central Iowa Power Cooperative etc.

Filed Date: 05/13/2010.

Accession Number: 20100513-0234.

Comment Date: 5 p.m. Eastern Time on Thursday, June 03, 2010.

Take notice that the Commission received the following electric securities filings:

Docket Numbers: ES10-40-000.

Applicants: Monongahela Power Company.

Description: Monongahela Power Company Section 204 Application.

Filed Date: 04/30/2010.

Accession Number: 20100430-5487.

Comment Date: 5 p.m. Eastern Time on Friday, May 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-12612 Filed 5-25-10; 8:45 am]

BILLING CODE 6717-01-P